DEPARTMENT OF ENERGY

Federal Energy Regulatory Commission

[Project No. 12460-001]

North Snake Groundwater District; Notice of Surrender of Preliminary Permit

April 5, 2006.

Take notice that North Snake Groundwater District, permittee for the proposed North Snake Groundwater Project, has requested that its preliminary permit be terminated. The permit was issued on January 23, 2004, and would have expired on December 31, 2006. ¹ The project would have been located on the Curren Ditch River in Godding County, Idaho.

¹ 106 FERC ¶ 62,055.

The permittee filed the request on March 8, 2006, and the preliminary permit for Project No. 12460 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Magalie R. Salas,
Secretary.

[FR Doc. E6-5304 Filed 4-10-06; 8:45 am]

BILLING CODE 6717-01-P